DEPARTMENT OF STATE

[Public Notice 8754]

Determination and Certification Under Section 40A of the Arms Export Control Act

Pursuant to section 40A of the Arms Export Control Act (22 U.S.C. 2781), and Executive Order 13637, as amended, I hereby determine and certify to the Congress that the following countries are not cooperating fully with United States antiterrorism efforts:

Cuba

Eritrea

Iran

Democratic People's Republic of Korea (DPRK, or North Korea)

Syria

Venezuela

This determination and certification shall be transmitted to the Congress and published in the Federal Register.

Dated: May 12, 2014.
John F. Kerry,
Secretary of State.

[FR Doc. 2014-12966 Filed 6-3-14; 8:45 am]

BILLING CODE 4710-10-P